ENVIRONMENTAL PROTECTION AGENCY

40 CFR Part 257

[EPA-HQ-OLEM-2020-0107; FRL-7814.2-04-OLEM]

RIN 2050-AH36

Hazardous and Solid Waste Management System: Disposal of Coal Combustion Residuals From Electric Utilities; CCR Management Unit Deadline Extension Rule; Reopening of Comment Period and Public Hearing

AGENCY: Environmental Protection Agency (EPA).

ACTION: Proposed rule; reopening of comment period and public hearing.

SUMMARY: The Environmental Protection Agency (EPA or the Agency) is reopening the comment period for the proposed rule entitled “Hazardous and Solid Waste Management System: Disposal of Coal Combustion Residuals From Electric Utilities; CCR Management Unit Deadline Extension Rule.” EPA is reopening the comment period until September 15, 2025, in response to stakeholders' requests for a public hearing and comment period extension.

DATES: The comment period for the proposed rule published on July 22, 2025 (90 FR 34409) closed August 21, 2025, and is reopened until September 15, 2025. Comments must be received on or before September 15, 2025. Public hearing: An online public hearing will be held on September 12, 2025.

ADDRESSES: Submit your comments, identified by Docket ID No. EPA-HQ-OLEM-2020-0107, online at https://www.regulations.gov. Follow the detailed online instructions provided under ADDRESSES in the Federal Register document published on July 22, 2025 (90 FR 34409). Do not submit electronically any information you consider to be Confidential Business Information (CBI) or other information whose disclosure is restricted by statute. Additional instruction on commenting and visiting the docket, along with more information about dockets generally, is available at https://www.epa.gov/dockets.

FOR FURTHER INFORMATION CONTACT: Taylor Holt, Office of Resource Conservation and Recovery, Materials Recovery and Waste Management Division, Environmental Protection Agency, 1200 Pennsylvania Avenue NW, MC: 5304T, Washington, DC 20460; telephone number: (202) 566-1439; email address: holt.taylor@epa.gov, or Frank Behan, Office of Resource Conservation and Recovery, Materials Recovery and Waste Management Division, Environmental Protection Agency, 1200 Pennsylvania Avenue NW, MC: 5304T, Washington, DC 20460; telephone number: (202) 566-0531; email address: behan.frank@epa.gov. For more information on this rulemaking please visit https://www.epa.gov/coalash.

SUPPLEMENTARY INFORMATION: On July 22, 2025, EPA published a direct final rule (90 FR 34358) and a proposed rule (90 FR 34409) entitled “Hazardous and Solid Waste Management System: Disposal of Coal Combustion Residuals From Electric Utilities; CCR Management Unit Deadline Extension Rule.” The original deadline to submit comments was August 21, 2025. On July 29, 2025 and August 1, 2025, EPA received requests for the Agency to extend the comment period and to conduct a public hearing, respectively.

In response to the request for a public hearing, on August 12, 2025, EPA announced on its CCR website that it will conduct an online public hearing on September 12, 2025. The hearing will convene at 9:00 a.m. Eastern Time (ET) and conclude at 1:00 p.m. (ET). Information on how EPA will conduct this public hearing, instructions on how to register to provide oral testimony or participate at the public hearing, and instructions on how to request the services of an interpreter or special accommodations such as audio transcription or closed captioning can be found on EPA's CCR website (https://www.epa.gov/coalash). Participation in the online public hearing does not preclude any entity or individual from submitting a written comment during the comment period. A verbatim transcript of the hearing and written statements submitted by the public at the public hearing will be included in the docket for the rulemaking. The public should monitor EPA's CCR website for updates regarding details of the public hearing.

In response to the request for a comment period extension, this action reopens the comment period of the proposed rule until September 15, 2025. Written comments must now be received by September 15, 2025. Due to the receipt of adverse comment, the EPA has published in the Federal Register a withdrawal of the related direct final rule (90 FR 34358).

To submit comments or access the docket, please follow the detailed instructions provided under ADDRESSES in the Federal Register document published on July 22, 2025 (90 FR 34409). Comments previously submitted need not be resubmitted as they are already incorporated into the public record and will be considered in the final action as appropriate. If you have questions, consult the people listed under FOR FURTHER INFORMATION CONTACT.

Lee Zeldin,
Administrator.

[FR Doc. 2025-16974 Filed 9-3-25; 8:45 am]

BILLING CODE 6560-50-P